DEPARTMENT OF TRANSPORTATION

Federal Motor Carrier Safety Administration

49 CFR Part 395

Notice of Regulatory Guidance: Automatic On-Board Recording Devices

AGENCY: Federal Motor Carrier Safety Administration (FMCSA), DOT.

ACTION: Notice of regulatory guidance.

SUMMARY: FMCSA issues regulatory guidance on two issues involving roadside inspection of commercial motor vehicles (CMVs) equipped with automatic on-board recording devices (AOBRDs) to assist drivers with hours-of-service (HOS) recordkeeping and compliance. All prior Agency interpretations and regulatory guidance, including memoranda and letters, may no longer be relied upon to the extent they are inconsistent with this guidance.

DATES: This regulatory guidance is effective May 12, 2014.

FOR FURTHER INFORMATION CONTACT: Mr. Thomas Yager, Chief, Driver and Carrier Operations Division, Federal Motor Carrier Safety Administration, U.S. Department of Transportation, 1200 New Jersey Avenue SE., Washington, DC 20590, phone (202) 366-4325, email MCPSD@dot.gov.

SUPPLEMENTARY INFORMATION:

Legal Basis

The Motor Carrier Safety Act of 1984 (Pub. L. 98-554, Title II, 98 Stat. 2832, October 30, 1984) (the 1984 Act) authorizes the Secretary of Transportation to regulate CMVs and equipment, and the drivers and motor carriers that operate them 49 U.S.C. 31136(a)]. Section 211 of the 1984 Act also gives the Secretary broad power to “prescribe recordkeeping and reporting requirements” and to “perform other acts the Secretary considers appropriate” (49 U.S.C. 31133(a)(8) and (10)). The Administrator of FMCSA has been delegated authority under 49 CFR 1.87(f) to carry out the functions vested in the Secretary by 49 U.S.C. chapter 311, subchapters I and III, relating to CMV programs and safety regulation.

Background

Motor carriers began to use automated HOS recording devices in the mid-1980s to replace paper records. The Federal Highway Administration, the agency at that time responsible for motor carrier safety regulations, published a final rule in 1988 that defined AOBRDs and set forth performance standards for their use (53 FR 38670, September 30, 1988).

AOBRD Display, Recording, and Printing Requirements

FMCSA has been informed that inspection officials sometimes request drivers to provide printouts from AOBRDs, or to email or fax records of duty status (RODS) to an enforcement official. The Agency has also been advised that, in some cases, inspection officials have issued citations to CMV drivers because their AOBRDs did not display certain information.

The Federal Motor Carrier Safety Regulations (FMCSRs) have never required AOBRDs to be capable of providing printed records at the roadside, although a driver may voluntarily do so if his/her AOBRD has that capability. Such printed information must meet the display requirements of § 395.15.

The AOBRD requirements for recording—but not displaying—information reflect mid-1980s information technology. These requirements were developed when small electronic displays were relatively uncommon and costly, and the amount and type of information they could display were limited. The earliest displays could show only text, not graphics—hence the requirement for the “time and sequence of duty status” rather than the § 395.8 graph grid. The additional information that is recorded but not displayed is intended for use during an audit of the carrier's HOS records.

Regulatory Guidance

FMCSA amends the April 4, 1997, publication to add questions 5 and 6 production of records during a roadside inspection.

PART 395—HOURS OF SERVICE OF DRIVERS

Add § 395.15 Questions 5 and 6, to read as follows:

Question 5: What information is required to be displayed on the AOBRD?

Guidance:

(1) Section 395.15(i)(5) requires that AOBRDs with electronic displays must be capable of displaying the following: “(i) Driver's total hours of driving today; (ii) The total hours on duty today; (iii) Total miles driving today; (iv) Total hours on duty for the 7 consecutive day period, including today; (v) Total hours on duty for the prior 8 consecutive day period, including the present day; and (vi) The sequential changes in duty status and the times the changes occurred for each driver using the device.”

(2) While § 395.15(c) requires additional information be recorded by the AOBRD, only the specific information listed in § 395.15(i)(5) must be displayed.

(3) The two provisions differ because of the data display limitations of a minimally compliant AOBRD.

Question 6: Must an AOBRD be capable of providing a hardcopy printout?

Guidance: No, the FMCSRs do not require AOBRDs to provide a hardcopy printout for an enforcement official. As long as the information made available for display on the AOBRD meets the requirements of § 395.15(i)(5), the driver and motor carrier are not required to provide additional RODS documentation to an enforcement official at the roadside. However, an enforcement official may request that additional information be provided by email, fax, or similar means within 48 hours for follow-up after the conclusion of the roadside inspection.

Issued on: April 28, 2014.
Anne S. Ferro,
Administrator.

[FR Doc. 2014-10822 Filed 5-9-14; 8:45 am]

BILLING CODE 4910-EX-P